DEPARTMENT OF DEFENSE

Department of the Army; Corps of Engineers

Intent To Prepare a Draft Environmental Impact Statement for the Peckman River Basin Flood Control and Ecosystem Restoration Project, Passaic and Essex Counties, NJ

AGENCY: Department of the Army, U.S. Army Corps of Engineers, DoD.

ACTION: Notice of intent.

SUMMARY: The U.S. Army Corps of Engineers (Corps), New York District, is preparing a Draft Environmental Impact Statement (DEIS), in compliance with the National Environmental Policy Act (NEPA), which will lead to a NEPA document in accordance with Council on Environmental Quality (CEQ) regulations, as defined and amended in 40 CFR parts 1500-1508 (promulgated pursuant to NEPA), Corps' principle and guidelines as defined in Engineering Regulations (ER) 1105-2 100, Planning Guidance Notebook, and ER 200-2-2, Procedures for Implementing NEPA, and other applicable Federal and State environmental laws for the proposed flood control and ecosystem restoration project in the Peckman River Basin located in Passaic and Essex Counties, NJ. The study area includes the Peckman River, which originates in the Town of West Orange, NJ, and flows northeasterly through the Borough of Verona, the Township of Cedar Grove, the Township of Little Falls, and the Borough of West Paterson to its confluence with the Passaic River.

FOR FURTHER INFORMATION CONTACT: Ms. Bobbi Jo McClain, Project Biologist, Planning Division, U.S. Army Corps of Engineers, New York District, 26 Federal Plaza, Room 2146, New York, NY, 10278-0090 at (212) 264-5818 or at Bobbi.J.McClain@usace.army.mil.

SUPPLEMENTARY INFORMATION: 1. This study is authorized by a U.S. House of Representatives' Committee on Transportation and Infrastructure Resolution, Docket Number 2644, adopted on June 21, 2000, reading: “Resolved by the Committee on Transportation and Infrastructure of the United States House of Representatives, that the Secretary of the Army is requested to review the report of the Chief of Engineers on the Passaic River Mainstream project, New Jersey and New York, published as House Document 163, 101st Congress, 1st Session, and other reports to determine whether modifications of the recommendations contained therein are advisable at the present time, in the interest of water resources development, including flood control, environmental restoration and protection, stream bank restoration, and other allied purposes for the Peckman River and tributaries, New Jersey.”

2. A Public Scoping has been completed with the development of a Public Scoping Document. The meeting was held February 11, 2004, at the Little Falls Civic Center in Little Falls, NJ. All comments from public and agency scoping coordination will be addressed in the DEIS. Parties interested in receiving the Scoping Document should contact Bobbi Jo McClain at the above address.

3. A DEIS is due for completion by June 2006, as subject to availability of funds.

4. Federal agencies interested in participating as a Cooperating Agency are requested to submit a letter of intent to COL John B. O'Dowd, District Engineer, at the above address.

Leonard Houston,
Chief, Environmental Analysis Branch.

[FR Doc. 04-10944 Filed 5-13-04; 8:45 am]

BILLING CODE 3710-06-M